DEPARTMENT OF JUSTICE

Antitrust Division

Notice Pursuant to the National Cooperative Research and Production Act of 1993—Security Industry Association

Notice is hereby given that, on September 20, 2004, pursuant to section 6(a) of the National Cooperative Research and Production Act of 1993, 15 U.S.C. 4301 et seq. (“the Act”), Security Industry Association (“SIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Security Industry Association, Alexandria, VA. The nature and scope of SIA's standards development activities are: Standards for the manufacturers of electronic security equipment, including those activities related to the design, production, installation, monitoring, maintenance, and other treatments or aspects of electronic security equipment, including alarm and non-alarm equipment, such as law enforcement response and telecommunication signaling utilizing the Public Switched Telephone Network (PSTN).

Dorothy B. Fountain,
Deputy Director of Operations, Antitrust Division.

[FR Doc. 04-24560 Filed 11-2-04; 8:45 am]

BILLING CODE 4410-11-M